FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

-
Trans No. | Acquiring | Acquired | Entities
TRANSACTIONS GRANTED EARLY TERMINATION—10/15/2007
20072025 | Fiserv, Inc | CheckFree Corporation | CheckFree Corporation
20072248 | TomTom N.V | Tele Atlas N.V | Tele Atlas N.V.
20080007 | Ariba, Inc | Procuri, Inc | Procuri, Inc.
TRANSACTIONS GRANTED EARLY TERMINATION—10/16/2007
20072209 | Higher Liner Foods Incorporated | FPI Limited | Fishery Products International, Inc., Fishery Products International Limited.
20072245 | ZAM Holdings, L.P | AutoNation, Inc | AutoNation, Inc.
20072246 | ESL Partners, L.P. | AutoNation, Inc. | AutoNation, Inc.
20080005 | Idearc Inc | InfoSpace, Inc | InfoSpace.com, Switchboard.com.
20080012 | Linsalata Capital Partners Fund V, L.P | Jesse Ma and Emily Wang | Transpac Imports, Inc.
20080018 | Aldabra 2 Acquisition Corp | Madison Dearborn Capital Partners IV, L.P | Boise Paper Holdings, LLC.
20080031 | Lindsay Goldberg & Bessemer, L.P | Michael Gray | The Sweet Life Enterprise, Inc.
20080032 | Long Point Capital Fund II, L.P | Stephen C. DeTommaso | Torrent Resources Incorporated.
20080036 | Audax Private Equity Fund III, L.P | Callisto Capital, L.P | Mini-Skool Early Learning Centres Holdings, Ltd.
TRANSACTIONS GRANTED EARLY TERMINATION—10/17/2007
20071635 | Intel Corporation | Newco B.V | Newco B.V.
20080014 | Media Tek Inc | Analog Devices, Inc | Analog Devices APS, Analog Devices, B.V., Analog Devices (China) Co., Ltd., Analog Devices Hong Kong, Ltd., Analog Devices, Inc., Analog Devices India Private Limited, Analog Devices Korea, Ltd., Analog Devices Limited, Analog Devices (Shanghai) Co., Ltd.
TRANSACTIONS GRANTED EARLY TERMINATION—10/22/2007
20072225 | Esmark Incorporated | Wheeling-Pittsburgh Corporation | Wheeling-Pittsburgh Corporation.
20072226 | Wheeling-Pittsburgh Corporation | Esmark Incorporated | Esmark Incorporated.
20080050 | Steel Dynamics, Inc | OmniSource Corporation | OmniSource Corporation.
20080051 | Daniel M. Rifkin | Steel Dynamics, Inc | Steel Dynamics, Inc.
20080052 | Richard S. Rifkin | Steel Dynamics, Inc | Steel Dynamics, Inc.
20080055 | United Natural Foods, Inc | Richard A. Bernstein | Distribution Holdings, Inc.
20080058 | UBS International Infrastructure Fund | UBS AG | AIG Hlghstar Generation LLC, UBS Northern A LLC, UBS Northern B LLC.
20080063 | Martin S. Rifkin | Steel Dynamics, Inc | Steel Dynamics, Inc.
20080066 | OCM Principal Opportunities Fund IV AIF (Delaware), L.P | Clear Channel Communications, Inc | Capstar Radio Operating Company; Capstar TX Limited Partnership; CC Licenses, LLC, Citicasters Co.; Citicasters Licenses LP; Clear Channel Broadcasting, Inc., Clear Channel Broadcasting Licenses, Inc.; Clear Channel Identity, LP.
20080071 | Sodexho Alliance, S.A | Circle Company Associates, Inc | Circle Company Associates, Inc.
20080074 | Quest Midstream Partners, L.P | Enbridge Energy Partners, L.P | Enbridge Pipelines (KPC), Midcoast Holdings No. One, L.L.C., Midcoast Kansas General Partner, L.L.C., Midcoast Kansas Pipeline, L.L.C.
20080076 | John T. Chambers | Cisco Systems, Inc | Cisco Systems, Inc.
20080079 | Oak Investment Partners XII, Limited Partnership | PharMedium Healthcare Corporation | PharMedium Healthcare Corporation.
TRANSACTIONS GRANTED EARLY TERMINATION—10/23/2007
20080001 | Chier Badger Mining Voting LLC | Atlas Resin Proppants LLP | Atlas Resin Proppants LLP.
20080003 | CommunityAmerica Credit Union | Midwest United Credit Union | Midwest United Credit Union.
20080013 | Vedior N.V | B2B Workforce, Inc | B2B Workforce, Inc.
20080037 | Providence Equity Partners VI L.P | ZeniMax Media Inc | ZeniMax Media Inc.
20080038 | Providence Equity Partners VI-A L.P | ZeniMax Media Inc | ZeniMax Media Inc.
20080044 | Blackfriars Corp | U.S. Electrical Services, LLC | U.S. Electrical Services D.C. Inc., U.S. Electrical Services Mid-Atlantic, Inc., U.S. Electrical Services New England, Inc., U.S. Electrical Services Southeast, Inc.
20080056 | Catterton Partners VI, L.P | OTM Master, LLC | On Target Media, LLC.
20080062 | GateHouse Media, Inc. | William S. Morris III and Mary Sue Morris | Morris Publishing Group, LLC.
20080065 | Harron Sharing Partners, L.P | Providence Growth Investors L.P | Northland Cable Networks, LLC.
TRANSACTIONS GRANTED EARLY TERMINATION—10/24/2007
20080041 | Natixis | J. Patrick Rogers | Gateway Investment Advisers, L.P.
20080042 | Koninklijke Philips Electronics N.V | SHL Telemedicine Ltd | Cardiac Evaluation Services, Inc., Raytel Cardiac Services, Inc., Raytel Imaging Network, Inc.
20080053 | DNL 1 Beteiligungsgesellschaft mbH | Wind Point Partners V, L.P. | BIPC Holding Corporation.
TRANSACTIONS GRANTED EARLY TERMINATION—10/25/2007
20080026 | John L. Ocampo | RF Micro Devices, Inc. | RF Micro Devices, Inc.
20080090 | Ramon Calderon | Pueblo International, LLC | Pueblo International, LLC.
TRANSACTIONS GRANTED EARLY TERMINATION—10/26/2007
20080009 | Montagu III L.P | 2003 Riverside Capital Appreciation Fund, L.P | Orthopedic Holding Company.
20080030 | Deutsche Telekom AG | Suncom Wireless Holdings, Inc | Suncom Wireless Holdings, Inc.
20080059 | ARRIS Group, Inc | C-COR Incorporated | C-COR Incorporated.
20080078 | Roark Capital Partners, LP | BP Holdings, Inc | Square Brands International, LLC.
20080087 | Emerson Electric Co | Motorola, Inc | Blue Wave Systems, Inc., Blue Wave Systems Limited, Force Computers, Inc., Force Computers (UK) Limited, Motorola Japan Limited, Motorola A.B., Motorola B.V., Motorola Canada Limited, Motorola (China) Electronics, Ltd., Motorola de Nogales Operaciones, S.de R.L. de C.V., Motorola GmbH, Motorola India Private Limited, Motorola Israel Ltd., Motorola Limited, Motorola S.A.S., Motorola Technology Sdn Bhd.
20080094 | PAETEC Holding Corp | McLeodUSA Incorporated | McLeodUSA Incorporated.
20080100 | James J. Cotter | Michael R. Forman's GST Exempt Trust | Consolidated Amusement Theatres, Inc., Kenmore Rohnert, LLC, Pacific Theatres Exhibition Corp.
20080101 | Vector Capital IV, L.P | Printronix, Inc | Printronix, Inc.
20080104 | The Goldman Sachs Group, Inc | Credit-Based Asset Servicing and Securitization LLC. | Litton Loan Servicing LP.
TRANSACTIONS GRANTED EARLY TERMINATION—10/29/2007
20080016 | Susser Holdings Corporation | TCFS Holdings, Inc | TCFS Holdings, Inc.
20080057 | RDR Holdings, Inc | J. Roger Kent | Rug Doctor, L.P.
20080095 | CRH plc | Quad-C Partners VI, L.P | AMS Holdings, Inc.
20080096 | The Resolute Fund II, L.P | David B. Garcia | CEDRA Corporation, Cedra Holding, Inc.
TRANSACTIONS GRANTED EARLY TERMINATION—10/30/2007
20080011 | SRAM Corporation | Andrew J. Ording | Compositech, Inc.
20080021 | ValueAct Capital Master Fund, L.P | Sara Lee Corporation | Sara Lee Corporation.
20080025 | ValueAct Capital Master Fund III, L.P | Sara Lee Corporation | Sara Lee Corporation.
20080040 | Sims Group Limited | Metal Management, Inc. | Metal Management, Inc.
20080080 | AMB Industries Incorporated | Lord Ashcroft | OneSource Services, Inc.
20080105 | Gores Capital Partners II, LP | Charterhouse Equity Partners III, L.P | United Road Services, Inc.
20080119 | MX International S.a.r.l. | Gryphon Partners III, L.P | Consolidated Fire Protection Holdings, Inc.
TRANSACTIONS GRANTED EARLY TERMINATION—10/31/2007
20080116 | Getco Holding Company, LLC | BATS Trading, Inc | BATS Trading, Inc.
TRANSACTIONS GRANTED EARLY TERMINATION—11/01/2007
20072091 | Reuters Group PLC | StarMine Corporation | StarMine Corporation.
20080027 | Coinstar, Inc | Jose Francisco Leon | GroupEx Financial Corporation, JRJ Express Inc.
20080060 | Thomas F. Marsico | Bank of America Corporation | Marsico Capital Management, LLC, Marsico Fund Advisors, LLC.
20080122 | Honeywell International Inc | Hand Held Products, Inc | Hand Held Products, Inc.
TRANSACTIONS GRANTED EARLY TERMINATION—11/02/2007
20071867 | Helix Energy Solutions Group, Inc | Horizon Offshore, Inc | Horizon Offshore, Inc.
20080019 | Petroliam Nasional Berhad | KKR European Fund II, Limited Partnership | Sole Italia S.p.A.
20080084 | Svoboda, Collins Fund II, L.P | John C. Tlapek | Cape Electrical Supply, Inc.
20080130 | Renaissance Health Service Corporation | Delta Dental Plan of Michigan, Inc | Delta Dental Plan of Michigan, Inc.
20080134 | Electronic Arts Inc | Elevation Partners, L.P. | VG Holding Corp.
20080137 | ADC Telecommunications, Inc | LGC Wireless, Inc | LGC Wireless, Inc.
20080147 | Spectrum Equity Investors V, L.P | The Generations Network, Inc | The Generations Network, Inc.
20080153 | Inverness Medical Innovations, Inc | TA X L.P | Alere Medical Incorporated.

FOR FURTHER INFORMATION CONTACT: Sandra M. Peay, Contact Representative OR Renee Hallman, Contract Representative. Federal Trade Commission, Premerger Notification Office, Bureau of Competition, Room H-303, Washington, DC 20580, (202) 326-3100.

By Direction of the Commission.
Donald S. Clark,
Secretary.

[FR Doc. 07-5727 Filed 11-06-07; 8:45 am]

BILLING CODE 6750-01-M